DEPARTMENT OF HEALTH AND HUMAN SERVICES

Centers for Disease Control and Prevention

Board of Scientific Counselors, Coordinating Center for Health Promotion (BSC, CCHP)

Place: CDC, Tom Harkins Global Communication Center, Auditorium B, Building 19, 1600 Clifton Road, NE., Atlanta, Georgia 30333.

Correction: This notice was published in the Federal Register on June 11, 2009, Volume 74, Number 111, Page 27805. The location of the meeting has been changed.

Late Statement: This notice is being published less than 15 days prior to the meeting due to programmatic issues that had to be resolved.

Contact Person for More Information: Karen Steinberg, PhD, Senior Science Officer, Coordinating Center for Health Promotion, CDC, 4770 Buford Highway, NE., Mailstop E-70, Atlanta, Georgia 30341; telephone (404) 498-6700; fax (404) 498-6880; e-mail karen.steinberg@cdc.gov.

The Director, Management Analysis and Services Office has been delegated the authority to sign Federal Register notices pertaining to announcements of meetings and other committee management activities for both CDC and the Agency for Toxic Substances and Disease Registry.

Dated: June 16, 2009.
Elaine L. Baker,
Director, Management Analysis and Services Office, Centers for Disease Control and Prevention.

[FR Doc. E9-14544 Filed 6-19-09; 8:45 am]

BILLING CODE 4163-18-P